DEPARTMENT OF VETERANS AFFAIRS

Joint Biomedical Laboratory Research and Development and Clinical Science Research and Development Services Scientific Merit Review Board; Notice of Meetings

The Department of Veterans Affairs gives notice under the Public Law 92-463 (Federal Advisory Committee Act) that subcommittees of the Joint Biomedical Laboratory Research and Development and Clinical Science Research and Development Services Scientific Merit Review Board will meet from 8 a.m. to 5 p.m. as indicated below.

Gulf War Research A—September 16, 2005, State Plaza Hotel, 2117 E Street, NW., Washington, DC

Gulf War Research B—September 30, 2005, Churchill Hotel, 1914 Connecticut Avenue, NW., Washington, DC

The purpose of the Board is to provide expert review on the scientific quality, budget, safety and mission relevance of investigator-initiated research proposals submitted for merit review consideration and to provide advice on research program priorities and policies. Proposals submitted for review by the Board involve a wide range of medical specialties within the general areas of biomedical, behavioral and clinic science research. The meeting noted above will focus on proposals submitted in response to Request for Proposals Directed to Understanding Illnesses Affecting Gulf War Veterans.

The meetings will be open to the public for approximately thirty minutes at the start of each meeting to discuss the general status of the program. The remaining portion of each meeting will be closed to the public for the review, discussion, and evaluation of initial and renewal projects.

The closed portion of the meetings involves discussion, examination, reference to staff and consultant critiques of research protocols. During this portion of the meetings, discussion and recommendations will deal with qualifications of personnel conducting the studies, the disclosure of which would constitute a clearly unwarranted invasion of personal privacy, as well as research information, the premature disclosure of which could significantly frustrate implementation of proposed agency action regarding such research projects.

As provided by subsection 10(d) of Public Law 92-463, as amended, closing portions of these meetings is in accordance with 5 U.S.C., 552b(c) (6) and (9)(B). Those who plan to attend or would like to obtain a copy of minutes of the meetings should contact William J. Goldberg, Ph.D., Department of Veterans Affairs (121E), 810 Vermont Avenue, NW., Washington, DC 20420 at (202) 254-0294.

Dated: September 9, 2005.
By direction of the Secretary.
E. Philip Riggin,
Committee Management Officer.

[FR Doc. 05-18289 Filed 9-14-05; 8:45 am]

BILLING CODE 8320-01-M